DEPARTMENT OF AGRICULTURE

Animal and Plant Health Inspection Service

7 CFR Part 301

[Docket No. 02-042-2]

Witchweed; Regulated Areas

AGENCY: Animal and Plant Health Inspection Service, USDA.

ACTION: Final rule.

SUMMARY: We are adopting as a final rule, with several changes, an interim rule that amended the witchweed quarantine and regulations by updating the list of regulated areas to add or remove areas in North Carolina and South Carolina. Based on information received from the States of North Carolina and South Carolina, this final rule adds two farms and removes four from the list of regulated areas that appeared in the interim rule. These actions are necessary to prevent the artificial spread of witchweed from areas where the weed has been detected and to remove restrictions that are no longer necessary on the interstate movement of regulated articles from areas where witchweed has been eradicated.

EFFECTIVE DATE: August 29, 2003.

FOR FURTHER INFORMATION CONTACT: Dr. Alan V. Tasker, National Weed Program Coordinator, Invasive Species and Pest Management, PPQ, APHIS, 4700 River Road Unit 134, Riverdale, MD 20737-1236; (301) 734-5708.

SUPPLEMENTARY INFORMATION:

Background

Witchweed (Striga. spp.) is a parasitic plant that feeds off the roots of its host, causing degeneration of corn, sorghum, and other grassy crops. Within the United States, witchweed is only found in parts of North Carolina and South Carolina. The witchweed quarantine and regulations, contained in 7 CFR 301.80 through 301.80-10 (referred to below as the regulations), quarantine the States of North Carolina and South Carolina and restrict the interstate movement of certain articles from regulated areas in those States for the purpose of preventing the spread of witchweed.

In an interim rule effective February 4, 2003, and published in the Federal Register on February 10, 2003 (68 FR 6603-6605, Docket No. 02-042-1), we amended the list of regulated areas in the regulations by adding and removing areas in North Carolina and South Carolina. These actions were necessary to prevent the artificial spread of witchweed from areas where the weed has been detected and to remove restrictions that are no longer necessary on the interstate movement of regulated articles from areas where witchweed has been eradicated.

We solicited comments concerning the interim rule for 60 days ending April 11, 2003. We received one comment by that date, from a weed specialist with the North Carolina Department of Agriculture and Consumer Services. The commenter informed us that one of the farms in Cumberland County that was listed in the interim rule has been released from quarantine by the State of North Carolina and thus should no longer be listed as a regulated area in the regulations. Given that the witchweed regulated areas described in our regulations are derived from, and are intended to be consistent with, the regulated areas described by our State cooperators in their quarantine regulations, we have removed the farm cited by the commenter from the list in § 301.80-2a of regulated areas in North Carolina. Similarly, following the close of the comment period, the State of South Carolina brought to our attention that it had amended its witchweed quarantine by adding two farms in Horry County and by removing three farms, one in Horry County and two in Marion County. Again, for consistency with the regulated areas described by our State cooperators in their quarantine regulations, we have amended the list in § 301.80-2a of regulated areas in South Carolina to reflect the changes made by the State of South Carolina. We have also reordered the listing of regulated areas in South Carolina so that they appear in alphabetical order, and have made several nonsubstantive editorial changes for clarity or to correct typographical errors.

Therefore, for the reasons given in the interim rule and in this document, we are adopting the interim rule as a final rule, with the changes discussed in this document.

This final rule also affirms the information contained in the interim rule concerning Executive Order 12866 and the Regulatory Flexibility Act, Executive Orders 12372 and 12988, and the Paperwork Reduction Act.

Effective Date

Pursuant to the administrative procedure provisions in 5 U.S.C. 553, we find good cause for making this rule effective less than 30 days after publication in the Federal Register. The interim rule adopted as final by this rule was effective on February 4, 2003. This rule amends the description of the regulated areas in the interim rule. Immediate action is necessary to amend the description of the regulated areas in order to prevent the artificial spread of witchweed from areas where the weed has been detected and to remove restrictions that are no longer necessary on the interstate movement of regulated articles from areas where witchweed has been eradicated. Therefore, the Administrator of the Animal and Plant Health Inspection Service has determined that this rule should be effective upon publication in the Federal Register.

List of Subjects in 7 CFR Part 301

Agricultural commodities, Plant diseases and pests, Quarantine, Reporting and recordkeeping requirements, Transportation.

Accordingly, the interim rule amending 7 CFR part 301 that was published at 68 FR 6603-6605 on February 10, 2003, is adopted as a final rule with the following changes:

PART 301—DOMESTIC QUARANTINE NOTICES

1. The authority citation for part 301 continues to read as follows:

Authority: 7 U.S.C. 7701-7772; 7 CFR 2.22, 2.80, and 371.3.

Section 301.75-15 also issued under Sec. 204, Title II, Pub. L. 106-113, 113 Stat. 1501A-293; sections 301.75-15 and 301.75-16 also issued under Sec. 203, Title II, Pub. L. 106-224, 114 Stat. 400 (7 U.S.C. 1421 note).

2. Section 301.80-2a is amended as follows:

a. Under the heading “North Carolina,” paragraph (2), under Cumberland County, by removing the entry for the Lewis, David, farm.

b. Under the heading “South Carolina,” by revising paragraph (2) to read as set forth below.

§ 301.80-2a Regulated areas; generally infested and suppressive areas.

* * * * *

South Carolina

* * * * *

(2) Suppressive areas.

Horry County. That area bounded by a line beginning at a point where U.S. Highway 9 intersects the Horry-Marion County line, then east along U.S. Highway 9 to State Secondary Highway 19, then southeast along State Secondary Highway 19 to Lake Swamp, then southwest along Lake Swamp to State Secondary Highway 99, then south and southwest along State Secondary Highway 99 to U.S. Highway 501, then west along U.S. Highway 501 to the Little Pee Dee River, then north along the Little Pee Dee River to the Lumber River, then north along the Lumber River to U.S. Highway 9, the point of beginning.

The Adams, Lena J., farm located on the west side of State Highway 90, 1.2 miles west of its junction with the State Secondary Road known as Pint Circle.

The Chestnut, Alberta, farm located on the west side of State Highway 90, 0.3 mile west of its junction with the State Secondary Road known as Pint Circle.

The James, Norman, farm located west of State Highway 90, 0.4 mile west of its junction with an unpaved road known as Thompson Road.

The Jenerette, Miriam, farm located on the east side of State Secondary Road 23, 3.4 miles south of its junction with State Highway 917.

The Lewis, Lula, farm located on the west side of State Highway 90, 0.4 mile west of its junction with an unpaved road known as Livingston Lane and 0.1 mile east of its junction with an unpaved road known as Beecher Lane.

The Livingston, Donnie, farm located on the east side of State Highway 90, 0.5 mile southeast of its junction with the State Secondary Road known as Bombing Range Road, 0.6 mile southeast of its junction with an unpaved road known as Dewitt Road, and 0.2 mile west of its junction with an unpaved road known as Sand Hill Lane.

The Livingston, Pittman, farm located on the east side of State Highway 90, 2.2 miles north of its junction with State Highway 22.

The Montgomery, Harry, farm located on the northwest side of State Highway 76 in the Causey community, 2.2 miles northwest of its junction with the State Secondary Road known as Sand Trap Road, 3.7 miles northeast of its junction with an unpaved road known as Causey Road, 0.1 mile northwest of its junction with an unpaved road known as Griffins Landing, and 0.15 mile northeast of its junction with an unpaved road known as Flat River Road.

The Permenter, Lucille, farm located on the east and west side of State Highway 57 at Worthar Cutoff junction, 0.5 mile south of the North Carolina/South Carolina State line.

The Stanley, Andrew, farm located on the east side of State Highway 90, 0.2 mile east of its junction with an unpaved road known as Andrew Road.

The Todd, Don, farm located west of State Highway 90, 0.4 mile west of its junction with an unpaved road known as Tilley Swamp Road.

The Vereen, Rufus C., farm located east of State Highway 90, 0.4 mile east of its junction with the State Secondary Road known as Old Chesterfield Road.

Marion County. The Brown, Lewis, farm located on the south side of State Highway 76, 1.4 miles south of its junction with State Secondary Road 201.

The Fowler, Herbert, Estate, farm located east of State Highway 501, 1.4 miles northeast of its junction with an unpaved road known as Bowling Green Road and 0.1 mile north of its junction with an unpaved road known as Salem Road.

The Rowell, Molite, farm located on the west side of State Secondary Road 9, 0.2 mile west of its junction with an unpaved road known as Molite Road.

The Taw Caw Plantation farm located on the south side of State Highway 76, 1.3 miles south of its junction with an unpaved road known as Bubba Road.

Done in Washington, DC, this 26th day of August, 2003.
Kevin Shea,
Acting Administrator, Animal and Plant Health Inspection Service.

[FR Doc. 03-22142 Filed 8-28-03; 8:45 am]

BILLING CODE 3410-34-P